DEPARTMENT OF AGRICULTURE

Farm Service Agency

Lifting of Temporary Suspension of Direct and Guaranteed Farm Ownership and Farm Operating Loan Programs To Construct Specialized Facilities Used for Hog Production.

AGENCY: Farm Service Agency, USDA.

ACTION: Notice lifting temporary suspension.

SUMMARY: The Farm Service Agency (FSA) is announcing the end of a temporary suspension, effective on the date of this notice, of direct and guaranteed farm ownership and farm operating loan financing for the construction of specialized facilities used for the production of hogs.

EFFECTIVE DATE: August 23, 2001.

FOR FURTHER INFORMATION CONTACT: James F. Radintz, Director, Farm Service Agency, Farm Loan Programs Loan Making Division, 1400 Independence Avenue, SW, Stop 0522, Washington, DC 20250-0522, telephone (202)720-1632; e-mail Jim_Radintz@wdc.usda.gov.

SUPPLEMENTARY INFORMATION:

Programs Affected

10.406 Farm Operating Loans

10.407 Farm Ownership Loans

Background

On January 8, 1999, FSA suspended direct and guaranteed farm loan financing for the construction of hog production facilities. This action was taken to ameliorate the record high level of pork production and oversupply conditions, which had driven live hog prices to less than $10 per hundredweight on the spot market. It had also been determined that it was inconsistent with USDA policy for FSA to continue financing construction of additional production facilities through direct loans and loan guarantees while other USDA agencies were expending resources to ameliorate oversupply conditions.

The Secretary has determined that conditions in the hog industry have improved to the extent that the suspension on financing for hog production facilities is no longer necessary. FSA county offices have been instructed: (1) To notify applicants and lenders that the suspension has been lifted and (2) to resume processing direct and guaranteed loan applications for the production of specialized facilities used for hog production.

Signed in Washington, D.C. on June 29, 2001.
James R. Little,
Acting Administrator, Farm Service Agency.

[FR Doc. 01-21311 Filed 8-22-01; 8:45 am]

BILLING CODE 3410-05-P